DEPARTMENT OF COMMERCE

National Oceanic and Atmospheric Administration

RIN 0648-XC442

South Atlantic Fishery Management Council (Council)—Public Meetings

AGENCY: National Marine Fisheries Service (NMFS), National Oceanic and Atmospheric Administration (NOAA), Commerce.

ACTION: Notice of public hearings and scoping meetings.

SUMMARY: The South Atlantic Fishery Management Council (SAFMC) will hold a series of scoping meetings and public hearings pertaining to Amendment 5 to the Dolphin Wahoo Fishery Management Plan (FMP) and Amendment 27 to the Snapper Grouper FMP.

DATES: The meetings will be held from January 22, 2013, through January 24, 2013 and from January 28, 2013, through January 30, 2013. All meetings will be held from 4 p.m. to 7 p.m.

ADDRESSES:

Meeting Addresses

1. January 22, 2013: Mighty Eighth Air Force Museum, 175 Bourne Avenue, Pooler, GA 31322; phone: 912/748-8888.

2. January 23, 2013: Hilton Garden Inn, 5265 International Blvd., N. Charleston, SC 29418; phone: 843/308-9330.

3. January 24, 2013: New Bern Riverfront Convention Center, 203 South Front Street, New Bern, NC 28563; phone: 252/637-1551.

4. January 28, 2013: Jacksonville Marriott, 4750 Salisbury Road, Jacksonville, FL 32256; phone: 904/296-2222.

5. January 29, 2013: Doubletree Cocoa Beach, 2080 North Atlantic Avenue, Cocoa Beach, FL 32931; phone: 321/783-9222.

6. January 30, 2013: Holiday Inn Key Largo, 99701 Overseas Hwy., Key Largo, FL 33037; phone: 305/451-2121.

Council Address: South Atlantic Fishery Management Council, 4055 Faber Place Drive, Suite 201, N. Charleston, SC 29405.

FOR FURTHER INFORMATION CONTACT: Kim Iverson, Public Information Officer, SAFMC; phone 843/571-4366 or toll free 866/SAFMC-10; FAX 843/769-4520; email: kim.iverson@safmc.net.

SUPPLEMENTARY INFORMATION: The items of discussion are as follows:

Scoping: Amendment 5 to the Dolphin Wahoo FMP

1. This amendment would revise: the Allowable Biological Catch (ABC); the Annual Catch Limit (ACL), including sector ACLs; sector allocations; and recreational Annual Catch Targets (ACT) for dolphin and wahoo based on Marine Recreational Information Program (MRIP) estimates.

2. Additionally, the amendment would: revise the accountability measures for dolphin and wahoo; modify the dolphin sector allocations; and revise the framework procedure in the Dolphin Wahoo FMP.

3. Written comments may be directed to Bob Mahood, Executive Director, SAFMC (see Council address) or via email to: DWAmend5ScopingComments@safmc.net. Comments will be accepted until 5 p.m. on February 4, 2013.

Public Hearing: Amendment 27 to the Snapper Grouper FMP

1. This amendment would: extend management responsibility of Nassau grouper in Gulf of Mexico waters to the SAFMC; increase the number of allowable crew members on dual-permitted snapper grouper vessels; and address captain and crew bag limit retention of snapper grouper.

2. Additionally, the amendment would: modify snapper grouper framework procedures to allow ABC levels, ACLs and ACTs to be adjusted via Federal Register notice; and modify management measures for blue runner.

3. Written comments may be directed to Bob Mahood, Executive Director, SAFMC (see Council address) or via email to: SGAmend27Comments@safmc.net. Comments will be accepted until 5 p.m. on February 4, 2013.

Council staff will present an overview of the amendments and will be available for informal discussions and to answer questions. Members of the public will have an opportunity to go on record at any time during the meeting hours to record their comments on the public hearing and scoping topics for consideration by the Council. Local Council representatives will attend the meetings and listen to public comment. Although non-emergency issues not contained in this agenda may come before this group for discussion, those issues may not be the subject of formal action during this meeting. Action will be restricted to any issues arising after publication of this notice that require emergency action under section 305(c) of the Magnuson-Stevens Fishery Conservation and Management Act, provided the public has been notified of the Council's intent to take final action to address the emergency.

Special Accommodations

These meetings are physically accessible to people with disabilities. Requests for auxiliary aids should be directed to the council office (see ADDRESSES) three (3) days prior to the meeting.

Note: The times and sequence specified in this agenda are subject to change.

Authority: 16 U.S.C. 1801 et seq.

Dated: January 9, 2013.
Tracey L. Thompson,
Acting Deputy Director, Office of Sustainable Fisheries, National Marine Fisheries Service.

[FR Doc. 2013-00601 Filed 1-14-13; 8:45 am]

BILLING CODE 3510-22-P